NUCLEAR REGULATORY COMMISSION

[Docket Nos. 72-12 and 50-333; License No. DPR-59]

Entergy Nuclear Operations, Inc.; James A. Fitzpatrick Nuclear Power Plant; Notice of Issuance of Director's Decision Under 10 CFR 2.206

Notice is hereby given that the Director, Office of Nuclear Material Safety and Safeguards, U.S. Nuclear Regulatory Commission (NRC), has issued a Director's Decision with regard to a Petition dated February 21, 2002, filed by Mr. Timothy Judson of the Citizens Awareness Network, et al., hereinafter referred to as the “Petitioner.” The Petition concerns the operation of Entergy's James A. FitzPatrick Interim Spent Fuel Storage Installation (ISFSI). The Petitioner requested the following:

1. That the NRC order Entergy to suspend the dry cask storage program at the FitzPatrick reactor.

2. That the NRC require Entergy to:

• Demonstrate that the proposed fuel storage program presents no increased risks to the national security or worker or public health and safety beyond what is contemplated in the Certificate of Compliance and General License, pursuant to § 72.212(4)-(5);

• Submit its proposed design changes for technical review in the form of a license amendment application and seek regulatory approval for them pursuant to § 72.244;

• Evaluate its use of the HI-TRAC 100 transfer cask for ALARA standards, per § 50, Appendix I;

• Provide more substantial physical and structural protection of the irradiated fuel and ISFSI to satisfy the requirements of §§ 73.51, 73.55; and

• Demonstrate the use of the HI-STORM 100 can satisfy these requirements at FitzPatrick, or demonstrate countervailing and compelling reasons to utilize the HI-STORM 100 at FitzPatrick, as opposed to any other casks certified by NRC.

3. That all documents and information filed in relation to the selection of storage casks and the implementation of dry storage at FitzPatrick be put on the docket for public inspection.

4. That the Petition Review Board (PRB) submit this Petition to the NRC's Office of the Inspector General (OIG) for review of the Spent Fuel Project Office's compliance with regard to NRC regulations in terms of design changes, licensing, amendments, exemptions and ALARA in its permitting process relating to the use of dry cask storage at FitzPatrick. Additionally, that a review be conducted to determine whether NRC staff in the Spent Fuel Project Office are complicit or misguided in permitting design changes to these casks without submission of a license amendment.

5. That the NRC conduct an investigation to determine whether Entergy has deliberately circumvented the appropriate technical and regulatory review required to protect worker and public health and safety and the environment.

As the basis for the February 21, 2002, request, the Petitioner states several safety concerns related to the design changes associated with the HI-STORM 100 cask design, as well as safety concerns related to national security.

The Petitioner addressed the PRB on March 29, 2002, in a telephone conference call to clarify the bases for the Petition. The meeting gave the Petitioner and the licensee an opportunity to provide additional information and to clarify issues raised in the Petition.

The NRC sent a copy of the proposed Director's Decision to the Petitioner and to the licensee for comment on August 13, 2002. The Petitioner responded with comments on August 27, 2002, and the licensee responded on August 28, 2002. The comments and the NRC staff's response to them are Enclosures to the Director's Decision.

The Director of the Office of Nuclear Material Safety and Safeguards has determined that the safety concerns the Petitioner raised related to the modified HI-STORM 100 cask design at FitzPatrick were reviewed, and determined not to pose an immediate safety issue. Therefore, the request to require that an order be issued to Entergy to suspend the dry cask storage program at FitzPatrick was denied. In response to the Petitioner's request that Entergy submit an additional safety demonstration of the FitzPatrick storage facility, it was determined, through the NRC inspection program, that Entergy has demonstrated that the proposed fuel storage program presents no increased risks to the national security or worker or public health and safety beyond what is contemplated in the Certificate of Compliance and General License, pursuant to § 72.212(4)-(5). The NRC denied the Petitioner's request that Entergy submit a license amendment, ALARA review, and various other safety evaluations and justifications to the NRC for review for the reasons noted in the detailed discussion in the Director's Decision. The Petitioner's request to require Entergy to provide more substantial physical and structural protection of the irradiated fuel and ISFSI was also denied, as existing security measures, including issuance of an NRC Order to Entergy on October, 16, 2002, have been determined to be adequate. The Petitioner requested that all documents and information filed in relation to the selection of storage casks and the implementation of dry storage at FitzPatrick be put on the docket for public inspection. Documents and information filed in relation to the selection of storage casks and the implementation of dry storage at FitzPatrick were put on the docket for public inspection by letter dated May 10, 2002, and the additional information was released to the public at that time. The Petitioner's request that the PRB submit this Petition to the OIG for review of the SFPO was granted, as noted in the letter dated April 12, 2002. In response to the Petitioner's request to investigate whether Entergy deliberately circumvented the regulatory process, the NRC staff review of Entergy's 10 CFR 72.48 evaluation concluded that the proper regulatory process was followed by Entergy, and no further investigation was warranted. The reasons for these decisions are explained in the Director's Decision pursuant to 10 CFR 2.206 (DD-02-02), the complete text of which is available for inspection at the Commission's Public Document Room, located at One White Flint North, 11555 Rockville Pike (first floor), Rockville, Maryland. The text is also accessible through the ADAMS Public Library on the NRC's Web site, http://www.nrc.gov (Public Electronic Reading Room).

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 28th day of October 2002.
For the Nuclear Regulatory Commission.
Martin J. Virgilio,
Director, Office of Nuclear Material Safety and Safeguards.

[FR Doc. 02-28013 Filed 11-1-02; 8:45 am]

BILLING CODE 7590-01-P